SMALL BUSINESS ADMINISTRATION

[Declaration of Disaster #3271; Amendment #5]

State of Minnesota

In accordance with information received from the Federal Emergency Management Agency, the above-numbered Declaration is hereby amended to extend the deadline for filing applications for physical damage as a result of this disaster for victims located in Yellow Medicine and Chippewa Counties in the State of Minnesota until September 25, 2000. These two counties were recently added to this declaration.

All other information remains the same, i.e., the deadline for filing applications for physical damage for all other counties is August 29, 2000, and for economic injury the deadline is March 30, 2001.

(Catalog of Federal Domestic Assistance Program Nos. 59002 and 59008.)
Dated: August 24, 2000.
Herbert L. Mitchell,
Acting Associate Administrator for Disaster Assistance.

[FR Doc. 00-22409 Filed 8-31-00; 8:45 am]

BILLING CODE 8025-01-P